DEPARTMENT OF HEALTH AND HUMAN SERVICES

Indian Health Service

Request for Public Comment 30 Day Proposed Information Collection: Mashpee Wampanoag Indian Health Service Unit Community Health Assessment

AGENCY: Indian Health Service, HHS.

ACTION: Notice and request for comments.

SUMMARY: In compliance the Paperwork Reduction Act of 1995, the Indian Health Service (IHS) invites the general public to take this opportunity to comment on the new information collection Office of Management and Budget (OMB) Control Number 0917-XXXX, titled, “Mashpee Wampanoag Community Health Assessment.” This proposed information collection project was recently published in the Federal Register (82 FR 11361) on February 22, 2017, and allowed 60 days for public comment, as required by law. The IHS received no comments regarding this collection. The purpose of this notice is to allow 30 days for public comment to be submitted directly to OMB. A copy of the supporting statement is available at www.regulations.gov (see Docket ID IHS_FRDOC_0001-0293).

DATES: June 21, 2017. Your comments regarding this information collection are best assured of having full effect if received within 30 days of the date of this publication.

ADDRESSES: Send your comments and suggestions regarding the proposed information collection contained in this notice, especially regarding the estimated public burden and associated response time to: Office of Management and Budget, Office of Regulatory Affairs, New Executive Office Building, Room 10235, Washington, DC 20503, Attention: Desk Officer for IHS.

FOR FURTHER INFORMATION CONTACT: To request additional information, please contact Evonne Bennett-Barnes by one of the following methods:

• Mail: Evonne Bennett-Barnes, Management Analyst/Information Collection Clearance Officer, Indian Health Service, 5600 Fisher Lane, Mail stop: 09E21B, Rockville, MD 20857.

• Phone: 301-443-4750.

• Email: Evonne.Bennett-Barnes@ihs.gov.

• Fax: 301-594-0899.

SUPPLEMENTARY INFORMATION: The IHS Mashpee Wampanoag Service Unit is submitting the proposed information collection to OMB for review, as required by section 3507(a)(1)(D) of the Paperwork Reduction Act of 1995. This notice is soliciting comments from members of the public and affected agencies as required by 44 U.S.C. 3506(c)(2)(A) concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques of other forms of information technology, e.g., permitting electronic submission of responses.

Title of Proposal: Mashpee Wampanoag Indian Health Service Unit Community Health Assessment.

Type of Information Collection Request: Three year approval of this new information collection.

OMB Control Number: To be assigned.

Need and Use of Information Collection: The Mashpee Wampanoag IHS Unit seeks to conduct a health assessment of the Mashpee Wampanoag Tribe. The collection of information will be used to evaluate the health care needs of the Mashpee Wampanoag tribal community. As a healthcare organization, the Mashpee Wampanoag Health Service Unit has questions regarding a respondent's health status, behavior and social practices as well as environmental concerns. These answers will help the organization assess healthcare needs of the community and guide the implementation of programs. The Mashpee Wampanoag Health Service Unit will be able to assess the community's needs and plan our programs accordingly to improve the health and well-being of the community.

Status of the Proposed Information Collection: New request.

Form(s): IHS Mashpee Wampanoag Community Health Assessment Questionnaire.

Agency Form Numbers: None.

Members of Affected Public: The Mashpee Wampanoag tribal community members in the Mashpee Wampanoag tribal service area.

The table below provides: Type of data collection instrument, Estimated number of respondents, Number of responses per respondent, Annual number of responses, Average burden hour per response, and Total annual burden hour(s).

Data collection instrument | Type of respondents | Number of responses per respondent | Total annual response | Average burden per response (hours) | Estimated burden hours
Community Health Assessment | Individuals | 1 | 469 | 25/60 | 195
Total |  | 1 | 469 | 25/60 | 195

There are no direct costs to respondents to report.

Dated: May 12, 2017.
Chris Buchanan
RADM, Assistant Surgeon General, USPHS, Acting Director, Indian Health Service.

[FR Doc. 2017-10425 Filed 5-19-17; 8:45 am]

BILLING CODE 4165-16-P